DEPARTMENT OF DEFENSE

Office of the Secretary

[Transmittal No. 20-61]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 20-61, Policy Justification, and Sensitive of Technology.

Dated: January 21, 2026.
Stephanie J. Bost,
Alternate OSD Federal Register Liaison Officer, Department of Defense.

BILLING CODE 6001-FR-P

BILLING CODE 6001-FR-C

Transmittal No. 20-61

Notice of Proposed Issuance of Letter of Offer Pursuant to Section 36(b)(1) of the Arms Export Control Act, as amended

(i) Prospective Purchaser: Republic of Türkiye

(ii) Total Estimated Value:

Major Defense Equipment * | $60.9 million
Other | $18.2 million
TOTAL | $79.1 million

(iii) Description and Quantity or Quantities of Articles or Services under Consideration for Purchase:

Major Defense Equipment (MDE):

Sixty (60) AIM-9X Sidewinder Block II All Up Round (AUR) missiles

Eleven (11) AIM-9X Block II Tactical guidance units

Non-Major Defense Equipment:

The following non-MDE items will be included: missile containers and support equipment; spare parts, and missile support, United States (U.S.) Government and contractor engineering, technical, and logistics support services; and other related elements of logistics and program support.

(iv) Military Department: Navy (TK-P-AIX)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: May 14, 2025

* as defined in Section 47(6) of the Arms Export Control Act.

POLICY JUSTIFICATION

Türkiye—AIM-9X Sidewinder Block II Missiles

The Republic of Türkiye has requested to buy sixty (60) AIM-9X Sidewinder Block II All Up Round (AUR) missiles and eleven (11) AIM-9X Block II Tactical guidance units. The following non-MDE items will be included: missile containers and support equipment; spare parts, and missile support, U.S. Government and contractor engineering, technical, and logistics support services; and other related elements of logistics and program support. The estimated total cost is $79.1 million.

This proposed sale will support the foreign policy goals and national security of the U.S. by improving the security of a NATO Ally that continues to be a force for political and economic stability in Europe.

This proposed sale will provide Türkiye with a critical air defense capability to assist in defending its homeland and U.S. personnel stationed there. Türkiye will have no difficulty absorbing these articles and services into its armed forces.

The proposed sale of this equipment and support will not alter the basic military balance in the region.

The principal contractor will be RTX Corporation, located in Tucson, AZ. At this time, the U.S. Government is not aware of any offset agreement proposed in connection with this potential sale. Any offset agreement will be defined in negotiations between the purchaser and the contractor.

Implementation of this proposed sale will require annual trips of three U.S. Government and two contractor representatives to Türkiye for technical reviews, support, and oversight for approximately eight years.

There will be no adverse impact on U.S. defense readiness as a result of this proposed sale.

Transmittal No. 20-61

Notice of Proposed Issuance of Letter of Offer Pursuant to Section 36(b)(1) of the Arms Export Control Act

Annex

Item No. vii

(vii) Sensitivity of Technology:

1. The AIM-9X Block II Sidewinder missile represents a substantial increase in missile acquisition and kinematics performance over the AIM-9M and replaces the AIM-9X Block I missile configuration. The missile includes a high off-boresight seeker, an enhanced countermeasure rejection capability, a low drag/high angle of attack airframe, and the ability to integrate the Helmet Mounted Cueing System. The most current AIM-9X Block II operational flight software developed for all international partners, which is authorized by U.S. Government export policy, provides fifth-generation infrared missile capabilities such as lock-on-after-launch, Weapons Data Link, surface attack, and surface launch. No software source code or algorithms will be released.

2. The highest level of classification of defense articles, components, and services included in this potential sale is SECRET.

3. If a technologically advanced adversary were to obtain knowledge of the specific hardware and software elements, the information could be used to develop countermeasures that might reduce system effectiveness or be used in the development of a system with similar or advanced capabilities.

4. A determination has been made that Türkiye can provide substantially the same degree of protection for the sensitive technology being released as the U.S. Government. This sale is necessary in furtherance of the U.S. foreign policy and national security objectives outlined in the Policy Justification.

5. All defense articles and services listed in this transmittal have been authorized for release and export to the Republic of Türkiye.

[FR Doc. 2026-01354 Filed 1-23-26; 8:45 am]

BILLING CODE 6001-FR-P